DEPARTMENT OF JUSTICE

Antitrust Division

Notice Pursuant to the National Cooperative Research and Production Act of 1993—DVD Copy Control Association

Notice is hereby given that, on March 6, 2009, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Fluendo S.A., Barcelona, SPAIN; Kenmec Mechanical Engineering Co., Ltd., Taipei, TAIWAN; Swank Motion Pictures, Inc., St. Louis, MO; and Tamul Multimedia Co., Ltd., AnYang-City, REPUBLIC OF KOREA have been added as parties to this venture.

Also, AMLogic, Inc., San Jose, CA; Changzhou XingQui Electric Co., Ltd., Changzhou Jiangsu, PEOPLE'S REPUBLIC OF CHINA; Chunglam Digital Co., Ltd., Gyunggi-do, REPUBLIC OF KOREA; Columbia Digital Media, Inc., Kanagawa, JAPAN; Dailystar Technology Limited, Hong Kong, HONG KONG-CHINA; Digeo Interactive, LLCI, Palo Alto, CA; Express Luck Industrial, Ltd., Shatin, HONG KONG-CHINA; Guangdong Cosmic Digital Technology Co., Ltd., Guangdong, PEOPLE'S REPUBLIC OF CHINA; Hamg Shing Technology Corp., Chu Pei City, TAIWAN; Honest Technology Co., Ltd., Daejeon, REPUBLIC OF KOREA; Intech Electronics (HK) Co., Ltd., Hong Kong, HONG KONG-CHINA; Le Hong Po Company Limited, Hong Kong, HONG KONG-CHINA; Microservice Tecnologia Digital S/A, Sao Paulo, BRAZIL; and Yung Fu Electrical Appliances Corp., Tianan City, TAIWAN have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on December 5, 2008. A notice was published in the Federal Register pursuant to Section 6(b) of the Act on January 21, 2009 (74 FR 3640).

Patricia A. Brink,
Deputy Director of Operations, Antitrust Division.

[FR Doc. E9-8821 Filed 4-17-09; 8:45 am]

BILLING CODE 4410-11-M